DEPARTMENT OF THE INTERIOR

Bureau of Land Management

[LLCON00000-L18200000.XX0000-19X]

Meetings of the Northwest (Colorado) Resource Advisory Council

AGENCY: Bureau of Land Management, Interior.

ACTION: Notice of public meetings.

SUMMARY: In accordance with the Federal Land Policy and Management Act and the Federal Advisory Committee Act of 1972, the U.S. Department of the Interior, Bureau of Land Management (BLM) Northwest (Colorado) Resource Advisory Council (RAC) will meet as indicated below.

DATES: The Northwest RAC is scheduled to meet June 13, 2019 and August 22, 2019. Each meeting will begin at 8 a.m. and adjourn at approximately 3:00 p.m.

ADDRESSES: The June 13 meeting will be held in Kremmling at the Allington Inn, 215 Central Avenue, and the August 22 meeting will be in Craig at the Center of Craig, 601 Yampa Avenue.

FOR FURTHER INFORMATION CONTACT: David Boyd, Public Affairs Specialist, Northwest District Office, 2300 River Frontage Road, Silt, CO 81652. Phone: (970) 876-9008. Email: dboyd@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The 15-member Northwest Colorado RAC advises the Secretary of the Interior, through the BLM, on a variety of public land issues in the Northwest District, which includes the Colorado River Valley, and the Kremmling, Little Snake, and White River field offices. Topics of discussion for these meetings include recreation, recreation fee proposals, fire management, land use planning, invasive species management, energy and minerals management, travel management, wilderness, wild horse herd management, land exchange proposals, cultural resource management, and other issues as appropriate. The June 13 agenda will include a specific campground fee proposal for the Colorado River Valley Field Office. Final agendas will be posted online at https://www.blm.gov/get-involved/resource-advisory-council/near-you/colorado/northwest-rac.

The meetings are open to the public, and public comment periods will be held at 10 a.m. and 2 p.m. at each meeting. Depending on the number of persons wishing to comment and time available, the time for individual oral comments may be limited.

The public may also send written comments to David Boyd, Public Affairs Specialist, Northwest District Office, 2300 River Frontage Road, Silt, CO 81652. Phone: (970) 876-9008. Email: dboyd@blm.gov. All comments received will be provided to the Northwest RAC.

Before including your address, phone number, email address, or other personal identifying information in your comment, you should be aware that your entire comment—including your personal identifying information—may be made publicly available at any time. While you can ask us in your comment to withhold your personal identifying information from public review, we cannot guarantee that we will be able to do so.

Detailed meeting minutes for the RAC meetings will be maintained in the Northwest District Office and will be available for public inspection and reproduction during regular business hours within thirty (30) days following the meeting. Previous RAC meeting minutes, membership information, and upcoming agendas are available at: https://www.blm.gov/get-involved/resource-advisory-council/near-you/colorado/northwest-rac.

Jamie Connell,
BLM Colorado State Director.

[FR Doc. 2019-10739 Filed 5-22-19; 8:45 am]

BILLING CODE 4310-JB-P